DEPARTMENT OF COMMERCE

International Trade Administration

Expected Non-Market Economy Wages: Request for Comments on 2007 Calculation

AGENCY: Import Administration, International Trade Administration, Department of Commerce.

ACTION: Request for comment.

SUMMARY: The Department of Commerce (“Department”) has a longstanding practice of calculating expected non-market economy (“NME”) wages for use as the surrogate value for direct labor in antidumping proceedings involving NME countries. These expected NME wages are calculated annually in accordance with the Department's regulations, See 19 CFR 351.408 (c)(3). This notice constitutes the Department's 2007 expected NME wages, which were calculated from 2005 data made available in 2007 according to the Department's revised methodology described in the Federal Register notice entitled Antidumping Methodologies: Market Economy Inputs, Expected Non-Market Economy Wages, Duty Drawback; and Request for Comments, 71 FR 61716, Oct. 19, 2006 (hereafter, the “Antidumping Methodologies notice”), and provides the public with an opportunity to comment on potential clerical errors in the calculation.

DATES: Any comments must be submitted no later than 10 days after publication of this notice.

ADDRESSES: Written comments (original and six copies) should be sent to David Spooner, Assistant Secretary for Import Administration, U.S. Department of Commerce, Central Records Unit, Room 1870, 14th Street and Pennsylvania Avenue, NW., Washington, DC 20230.

FOR FURTHER INFORMATION CONTACT: Anthony Hill, Economist, Office of Policy, or Juanita Chen, Special Assistant to the Senior Enforcement Coordinator, China/ NME Group, Import Administration, U.S. Department of Commerce, 14th Street and Constitution Avenue, NW., Washington, DC 20230, (202) 482-1843 and (202) 482-1904, respectively.

Background

The Department's regulations generally describe the methodology by which the Department calculates expected NME wages: For labor, the Secretary will use regression-based wage rates reflective of the observed relationship between wages and national income in market economy countries. The Secretary will calculate the wage rate to be applied in non-market economy proceedings each year. The calculation will be based on current data, and will be made available to the public, See 19 CFR 351.408 (c)(3).

The Department's expected NME wages are calculated each year in two steps. First, the relationship between hourly wage rates (obtained from the International Labour Organization's (“ILO”) Yearbook of Labour Statistics) and per-capita gross national income (“GNI”) (obtained from the World Bank) is estimated using ordinary least squares (OLS) regression analysis. Second, the GNI of each of the countries designated by the Department to be an NME are applied to the regression, which yields an expected hourly wage rate for each NME.

The Department published a notice in the Federal Register on October 19, 2006, which detailed its revised methodology for calculating expected NME wages in antidumping proceedings involving NME countries. See the Antidumping Methodologies notice. In that notice, the Department stated that “ [e]ach year, the Department's annual calculation will be subject to public notice prior to the adoption of the resulting expected NME wage rates for use in antidumping proceedings. Comment will be requested only with regard to potential clerical errors in the Department's calculation.” Antidumping Methodology Notice, 71 FR 61722.

This notice constitutes the Department's 2007 calculation of expected NME wages in Attachment 1, which were calculated from 2005 data made available in 2007 according to the Department's revised methodology described in the Antidumping Methodologies notice. The Department is requesting public comment only on the potential clerical errors in the calculation. Comments with regard to the methodology were addressed in the Antidumping Methodologies notice and will not be considered.

In order to facilitate a full opportunity for comment, and because the underlying data is voluminous, the preliminary results and underlying data for the preliminary 2007 expected NME wages calculation have been posted on the Import Administration Web site (http://www.ia.ita.doc.gov). This preliminary calculation will not be used for antidumping purposes until it has been finalized by the Department following the public comment period.

Submission of Comments

Persons wishing to comment on clerical errors in the Department's 2007 calculation of expected NME wages presented in Attachment 1 should file one signed original and six copies of each set of comments by the date specified above. The Department will consider all comments regarding clerical errors received before the close of the comment period. Comments received after the end of the comment period will be considered, if possible, but their consideration cannot be assured. The Department will not accept comments accompanied by a request that a part or all of the material be treated confidentially because of its business proprietary nature or for any other reason. The Department will return such comments and materials to the persons submitting the comments and will not consider them. All comments responding to this notice will be a matter of public record and will be available for inspection and copying at Import Administration's Central Records Unit, Room 1117. The Department requires that comments be submitted in written form. The Department recommends submission of comments in electronic form to accompany the required paper copies. Comments filed in electronic form should be submitted either by e-mail to the Webmaster below, or on CD-ROM, as comments submitted on diskettes are likely to be damaged by postal radiation treatment. Comments received in electronic form will be made available to the public in Portable Document Format (PDF) on the Internet at the Import Administration Web site at the following address: http://www.ia.ita.doc.gov. Any questions concerning file formatting, document conversion, access on the Internet, or other electronic filing issues should be addressed to Andrew Lee Beller, Import Administration Webmaster, at (202) 482-0866, e-mail address: webmaster-support@ita.doc.gov.

Dated: April 1, 2008.
Stephen J. Claeys,
Acting Assistant Secretary for Import Administration.

Attachment 1-2007 Calculation of Expected NME Wages

Following the criteria and methodology described in the Antidumping Methodologies notice, and using the data available to the Department as of December 27, 2007, the Department has calculated preliminary 2007 expected NME wages. 2004 and 2005 data in Chapter 5B of the ILO International Labour Statistics were available for 87 entities: Albania, Argentina, Armenia, Australia, Austria, Azerbaijan, Bahrain, Belgium, Bermuda, Botswana, Bulgaria, Canada, Chile, China, Colombia, Costa Rica, Croatia, Cuba, Cyprus, Czech Republic, Denmark, Dominican Republic, Ecuador, Egypt, El Salvador, Estonia, Finland, France, Georgia, Germany, Gibraltar, Guam, Hong Kong, Hungary, Iceland, India, Ireland, Isle of Man, Israel, Italy, Japan, Jersey, Jordan, Kazakhstan, Korea, Kyrgyzstan, Latvia, Lithuania, Luxembourg, Macau, the former Yugoslav Republic of Macedonia, Madagascar, Malta, Mauritius, Mexico, Moldova, Mongolia, Myanmar, Netherlands, New Zealand, Nicaragua, Norway, Panama, Peru, Philippines, Poland, Portugal, Puerto Rico, Qatar, Romania, Russian Federation, San Marino, Serbia and Montenegro, Seychelles, Singapore, Slovakia, Slovenia, Spain, Sri Lanka, Sweden, Switzerland, Taiwan, Ukraine, United Kingdom, United States, Virgin Islands, West Bank and Gaza strip.

Within this data set, for 2004 and 2005, there were no “earnings” data for Italy, Myanmar, Peru, Philippines, and Qatar.

There were no further entities eliminated as 2004 and 2005 data was present for “men and women” and represented all industries (“Total”) for the remaining 82 entities.

Of these 82 entities, a consumer price index was unavailable for the following 13: Azerbaijan, Bermuda, China, Cuba, Gibraltar, Guam, Isle of Man, Jersey, Puerto Rico, San Marino, Taiwan, Ukraine, and the Virgin Islands.

Of the remaining 69 entities, there was no exchange rate available for Serbia and Montenegro.

Of the remaining 68 entities, there was no GNI data available for: Bahrain, Cyprus, and Macau.

Of the remaining 65 entities, the following four are currently or were NMEs designated by the Department in 2004 or 2005: Armenia, Georgia, Kyrgyzstan, and Moldova.

Accordingly, the Department ran its preliminary 2007 expected NME wage regression on the following 61 countries: Albania, Argentina, Australia, Austria, Belgium, Botswana, Bulgaria, Canada, Chile, Colombia, Costa Rica, Croatia, Czech Republic, Denmark, Dominican Republic, Ecuador, Egypt, El Salvador, Estonia, Finland, France, Germany, Hong Kong, Hungary, Iceland, India, Ireland, Israel, Japan, Jordan, Kazakhstan, Korea, Latvia, Lithuania, Luxembourg, Macedonia the former Yugoslav Republic of, Madagascar, Malta, Mauritius, Mexico, Mongolia, Netherlands, New Zealand, Nicaragua, Norway, Panama, Poland, Portugal, Romania, Russian Federation, Seychelles, Singapore, Slovakia, Slovenia, Spain, Sri Lanka, Sweden, Switzerland, United Kingdom, United States, and West Bank and Gaza Strip.

Following the data compilation and regression methodology described in the Antidumping Methodologies notice, and using GNI and wage data for Base Year 2005, the regression results are: Wage = 0.284456 + 0.000447* GNI.

Country | Expected NME: 2005 GNI (USD per annum) | Expected NME: Wage rate (USD per hour)
Armenia | 1,470 | 0.94
Azerbaijan | 1,270 | 0.85
Belarus | 2,760 | 1.52
China | 1,740 | 1.06
Georgia | 1,300 | 0.87
Kyrgyz Republic | 450 | 0.49
Moldova | 960 | 0.71
Tajikistan | 330 | 0.43
Uzbekistan | 530 | 0.52
Vietnam | 620 | 0.56

The World Bank did not publish a GNI for Turkmenistan.

As stated above, the full preliminary results and underlying data for the 2007 expected NME wages calculation have been posted on the Import Administration Web site (http://ia.ita.doc.gov).

[FR Doc. E8-7805 Filed 4-10-08; 8:45 am]

BILLING CODE 3510-DS-P